DEPARTMENT OF COMMERCE

International Trade Administration

(A-485-806)

Notice of Extension of Time Limit for the Final Results of Antidumping Duty Administrative Review: Certain Hot-Rolled Carbon Steel Flat Products from Romania

AGENCY: Import Administration, International Trade Administration, Department of Commerce.

EFFECTIVE DATE: May 17,2005.

FOR FURTHER INFORMATION CONTACT: David Layton or Paul Stolz, AD/CVD Operations, Office 8, Import Administration, International Trade Administration, U.S. Department of Commerce, 14th Street and Constitution Avenue, NW, Washington, DC 20230; telephone: (202) 482-0371 and (202) 482-4474, respectively.

SUPPLEMENTARY INFORMATION: On April 13, 2005, the Department of Commerce (the Department) published in the Federal Register a notice extending the final results of the administrative review of the antidumping duty order on certain cut-to-length carbon steel plate from Romania by 30 days until no later than May 6, 2005. See Notice of Extension of Time Limit for the Final Results of Antidumping Duty Administrative Review: Certain Hot-Rolled Carbon Steel Flat Products from Romania 70 FR 19417 (April 13, 2005).

Extension of Time Limit for Final Results

Section 751(a)(3)(A) of the Trade Act as amended (the Act) provides that the Department may extend the time limit for completion of the final results of an administrative review to a maximum of 180 days if it determines that it is not practicable to complete the final results within the statutory time limit of 120 days from the date on which the preliminary results were published. The Department has determined that due to the complexity of the issues arising from Romania's graduation to market economy status during the review period, it is not practicable to complete this review within the time limits mandated by section 751(a)(3)(A) of the Act and section 351.213(h)(1) of the Department's regulations. Therefore, the Department is extending the time limit for the completion of these final results to 180 days. Accordingly, the final results of this review will now be due no later than June 6, 2005, which is the first business day after 180 days from the publication of the preliminary results.

This notice is published in accordance with section 751(a)(3)(A) of the Act and section 351.213(h)(2) of the Department's regulations.

Dated: May 6, 2005.
Barbara E. Tillman,
Acting Deputy Assistant Secretary for Import Administration.

[FR Doc. E5-2468 Filed 5-16-05; 8:45 am]

BILLING CODE 3510-DS-S